DEPARTMENT OF JUSTICE

Notice of Lodging of Modification of 1994 Consent Decree Affecting Operable Unit 9 of the California Gulch Superfund Site Under the Comprehensive Environmental Response, Compensation, and Liability Act

Notice is hereby given that on March 11, 2008, a Modification of 1994 Consent Decree Affecting Operable Unit 9 (“Consent Decree Modification”) in State of Colorado v. ASARCO Incorporated et al., Civil Action No. 86-cv-1675-WYD (consolidated with 83-cv-2388-WYD) was lodged with the United States District Court for the District of Colorado.

The United States previously entered into a consent decree with ASARCO Incorporated (now ASARCO LLC)(”ASARCO”) concerning, among other things, ASARCO's implementation of the remedial action addressing residential soil contamination designated as Operable Unit 9 (“OU9”) of the California Gulch Superfund Site located in Lake County, Colorado. That consent decree was approved and entered by the United States District Court for the District of Colorado on August 26, 1994 (the “1994 Decree”). The proposed Consent Decree Modification implements a settlement of that portion of the claim filed by the United States in In re ASARCO LLC, a bankruptcy case pending in the Southern District of Texas, Corpus Christi Division, Case No. 05-21207, concerning OU9. Pursuant to the terms of the settlement ASARCO will pay approximately $1 million to the United States, a trust fund established by ASARCO to fund the remedial action addressing residential soil lead contamination at the Site will be modified to provide sole access to the account to the U.S. Environmental Protection Agency, the Colorado Department of Public Health and Environment, and the Lake County Health Department (pursuant to their separate agreement), and ASARCO will have no further obligation for the implementation of the OU9 remedy.

The Department of Justice will receive for a period of thirty (30) days from the date of this publication comments relating to the Consent Decree Modification. Comments should be addressed to the Assistant Attorney General, Environment and Natural Resources Division, and either e-mailed to pubcomment-ees.enrd@usdoj.gov or mailed to P.O. Box 7611, U.S. Department of Justice, Washington, DC 20044-7611, and should refer to United States v. Apache Energy and Minerals Company, D.J. Ref. 90-11-3-138.

The Consent Decree Modification may be examined at the Office of the United States Attorney for the District of Colorado, 1225 Seventeenth Street, Suite 700, Denver, CO 80202, and at U.S. EPA Region 8, Superfund Records Center, 1595 Wynkoop St., Denver, CO 80202-1129. During the public comment period, the Consent Decree Modification may also be examined on the following Department of Justice Web site, http://www.usdoj.gov/enrd/Consent_Decrees.html. A copy of the Consent Decree Modification may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $2.50 (25 cents per page reproduction cost) payable to the U.S. Treasury or, if by e-mail or fax, forward a check in that amount to the Consent Decree Library at the stated address.

Robert D. Brook,
Assistant Chief, Environmental Enforcement Section, Environment and Natural Resources Division.

[FR Doc. E8-5230 Filed 3-14-08; 8:45 am]

BILLING CODE 4410-15-P